SECURITIES AND EXCHANGE COMMISSION

[Release No. 34-71485; File No. S7-27-11]

Order Extending Temporary Exemptions Under the Securities Exchange Act of 1934 in Connection With the Revision of the Definition of “Security” To Encompass Security-Based Swaps, and Request for Comment

February 5, 2014.

Correction

In notice document 2014-02834, appearing on pages 7731-7735 in the issue of Monday, February 10, 2014, make the following correction:

On page 7731, in the second column, the date, which was inadvertently omitted from the document heading, is added to read as set forth above.

[FR Doc. C1-2014-02834 Filed 2-13-14; 8:45 am]

BILLING CODE 1505-01-D